DEPARTMENT OF LABOR

Employment and Training Administration

[TA-W-65,636]

A.R.E. Manufacturing Inc. Newberg, OR; Notice of Termination of Investigation

Pursuant to Section 221 of the Trade Act of 1974, as amended, an investigation was initiated on March 19, 2009, in response to a petition filed by a company official on behalf of the workers of A.R.E. Manufacturing Inc., Newberg, Oregon.

The petitioner has requested that the petition be withdrawn. Consequently, the investigation has been terminated.

Signed at Washington, DC, this 30th day of March 2009.
Linda G. Poole,
Certifying Officer, Division of Trade Adjustment Assistance.

[FR Doc. E9-10239 Filed 5-4-09; 8:45 am]

BILLING CODE 4510-FN-P